OVERSEAS PRIVATE INVESTMENT CORPORATION

Sunshine Act; September 17, 2009 Board of Directors Meeting

Time and Date: Thursday, September 17, 2009, 10 a.m. (OPEN Portion), 10:15 a.m. (CLOSED Portion).

Place: Offices of the Corporation, Twelfth Floor Board Room, 1100 New York Avenue, NW., Washington, DC.

Status: Meeting OPEN to the Public from 10 a.m. to 10:15 a.m. Closed portion will commence at 10:15 a.m. (approx.).

Matters To Be Considered:

1. President's Report.

2. Approval of December 11, 2008 Minutes (Open Portion).

Further Matters To Be Considered: (Closed to the Public 10:15 a.m.)

1. Report from Audit Committee.

2. Proposed FY2011 Budget and Allocation of Retained Earnings.

3. Proposed Amendment to OPIC Bylaws.

4. Finance Project—Mexico.

5. Finance Project—Global.

6. Finance Project—Iraq.

7. Approval of December 11, 2008 Minutes (Closed Portion).

8. Pending Major Projects.

9. Reports.

Contact Person for Information: Information on the meeting may be obtained from Connie M. Downs at (202) 336-8438.

Dated: August 10, 2009.
Connie M. Downs,
Corporate Secretary, Overseas Private Investment Corporation.

[FR Doc. E9-19422 Filed 8-10-09; 4:15 pm]

BILLING CODE 3210-01-P